DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before November 3, 2008.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and forms:

Title: Personnel Questionnaire—Alcohol and Tobacco Products.

OMB Number: 1513-0002.

TTB Form Number: 5000.9.

Abstract: The information listed on TTB F 5000.9, Personnel Questionnaire—Alcohol and Tobacco Products, enables TTB to determine whether or not an applicant for an alcohol or tobacco permit meets the minimum qualifications. The form identifies the individual, residence, business background, financial sources for the business, and criminal record. If the applicant is found not to be qualified, the permit may be denied.

Current Actions: We are making minor corrections to this information collection and are submitting it as a revision.

Type of Review: Revision of a currently approved collection.

Affected Public: Business or other for-profit.

Estimated Number of Respondents: 5,000.

Estimated Total Annual Burden Hours: 10,000.

Title: Application and Permit to Ship Liquors and Articles of Puerto Rican Manufacture Taxpaid to the United States.

OMB Number: 1513-0008.

TTB Form Number: 5170.7.

Abstract: TTB F 5170.7 is used to document the shipment of taxpaid Puerto Rican articles into the U.S. The form is verified by Puerto Rican and U.S. Treasury officials to certify that products are either taxpaid or deferred under appropriate bond. This serves as a method of protection of the revenue.

Current Actions: We are making minor corrections to this information collection and are submitting it as a revision.

Type of Review: Revision of a currently approved collection.

Affected Public: Business or other for-profit.

Estimated Number of Respondents: 20.

Estimated Total Annual Burden Hours: 100.

Title: Application for Certification/Exemption of Label/Bottle Approval.

OMB Number: 1513-0020.

TTB Form Number: 5100.31.

Abstract: The Federal Alcohol Administration Act (the FAA Act, 27 U.S.C. 201 et seq.) requires the alcoholic beverage labels to provide the consumer with adequate information regarding a product's identity and prohibits the use of misleading information on such labels. The FAA Act also authorized the Secretary of the Treasury Department to issue regulations to carry out its provisions. To ensure compliance with the FAA Act and the related regulations, industry members complete TTB F 5100.31 as an application to label their products.

Current Actions: We are making minor corrections to this information collection and are submitting it as a revision.

Type of Review: Revision of a currently approved collection.

Affected Public: Business or other for-profit.

Estimated Number of Respondents: 10,982.

Estimated Total Annual Burden Hours: 41,238.

Title: Report—Proprietor of Export Warehouse.

OMB Number: 1513-0024.

TTB Form Number: 5220.4.

Abstract: Proprietors who are qualified to operate export warehouses that handle untaxpaid tobacco products are required to file a monthly report. This report summarizes all transactions by the proprietor handling receipts, dispositions, and on-hand quantities. TTB F 5220.4 is used for product accountability and is examined by TTB National Revenue Center personnel.

Current Actions: We are making minor corrections to this information collection and are submitting it as a revision.

Type of Review: Revision of a currently approved collection.

Affected Public: Business or other for-profit.

Estimated Number of Respondents: 123.

Estimated Total Annual Burden Hours: 1,181.

Title: Claim for Drawback of Tax on Cigars, Cigarettes, Cigarette Papers and Tubes.

OMB Number: 1513-0026.

TTB Form Number: 5620.7.

Abstract: TTB F 5620.7 documents that cigars, cigarettes, and cigarette papers and tubes were shipped to a foreign country, Puerto Rico, the Virgin Islands, or a possession of the United States and that the tax has been paid on these tobacco articles. TTB F 5620.7 is the claim form that a person who paid the tax on the articles uses to file for a drawback or refund for the tax that was paid.

Current Actions: We are making minor corrections to this information collection and are submitting it as a revision.

Type of Review: Revision of a currently approved collection.

Affected Public: Business or other for profit.

Estimated Number of Respondents: 185.

Estimated Total Annual Burden Hours: 92.5.

Title: Report—Manufacturer of Tobacco Products or Cigarette Papers and Tubes.

OMB Number: 1513-0033.

TTB Form Number: 5210.5.

Abstract: TTB F 5210.5 documents a tobacco products manufacturer's accounting of cigars and cigarettes. The form describes the tobacco products manufactured, articles produced, received, disposed of, and statistical classes of large cigars. TTB examines and verifies entries on these reports so as to identify unusual activities, errors, and omissions.

Current Actions: We are making minor corrections to this information collection and are submitting it as a revision.

Type of Review: Revision of a currently approved collection.

Affected Public: Business and other for-profit.

Estimated Number of Respondents: 150.

Estimated Total Annual Burden Hours: 1,800.

Title: Inventory—Export Warehouse Proprietor.

OMB Number: 1513-0035.

TTB Form Number: 5220.3.

Abstract: TTB F 5220.3 is used by export tobacco warehouse proprietors to record inventories that are required by laws and regulations. The form provides a uniform format for recording inventories and establishes a contingent tax liability on tobacco products.

Current Actions: We are making minor corrections to this information collection and are submitting it as a revision.

Type of Review: Revision of a currently approved collection.

Affected Public: Business and other for-profit.

Estimated Number of Respondents: 98.

Estimated Total Annual Burden Hours: 490.

Title: Withdrawal of Spirits, Specially Denatured Spirits, or Wines for Exportation.

OMB Number: 1513-0037.

TTB Form Number: 5100.11.

Abstract: TTB F 5100.11 is completed by exporters to report the withdrawal of spirits, denatured spirits, and wines from internal revenue bonded premises, without payment of tax for direct exportation; or transfer to a foreign trade zone, customs manufacturer's bonded warehouse, or customs bonded warehouse; or for use as supplies on vessels or aircraft.

Current Actions: We are making minor corrections to this information collection and are submitting it as a revision.

Type of Review: Revision of a currently approved collection.

Affected Public: Business or other for-profit.

Estimated Number of Respondents: 300.

Estimated Total Annual Burden Hours: 6,000.

Title: Application for Operating Permit Under 26 U.S.C. 5171(d).

OMB Number: 1513-0040.

TTB Form Number: 5110.25.

Abstract: TTB F 5110.25 is completed by proprietors of distilled spirits plants who engage in certain specified types of activities (such as warehousing bulk distilled spirits for non-industrial use without bottling). TTB personnel use the information on the form to identify the applicant, the location of the business, and the types of activities to be conducted.

Current Actions: We are making minor corrections to this information collection and are submitting it as a revision.

Type of Review: Revision of a currently approved collection.

Affected Public: Business and other for-profit.

Estimated Number of Respondents: 80.

Estimated Total Annual Burden Hours: 20.

Title: Drawback on Distilled Spirits Exported.

OMB Number: 1513-0042.

TTB Form Number: 5110.30.

Abstract: The information collected on TTB F 5110.30 provides a uniform format for determining that taxes have already been paid. The form details specific operations and accounts for taxable commodities. Tax liability is established to prevent jeopardy to the revenue derived from distilled spirits. TTB examines and verifies entries so as to identify unusual activities, errors, or omissions.

Current Actions: We are making minor corrections to this information collection and are submitting it as a revision.

Type of Review: Revision of a currently approved collection.

Affected Public: Business and other for-profit.

Estimated Number of Respondents: 100.

Estimated Total Annual Burden Hours: 10,000.

Title: Application and Permit to Ship Puerto Rican Spirits to the United States Without Payment of Tax.

OMB Number: 1513-0043.

TTB Form Number: 5110.31.

Abstract: TTB F 5110.31 is used to allow a person to ship spirits in bulk into the U.S. The form identifies the person in Puerto Rico from where shipments are to be made, the person in the U.S. receiving the spirits, amounts of spirits to be shipped, and the bond of the U.S. person to cover taxes on such spirits.

Current Actions: We are making minor changes to this information collection and are submitting it as a revision.

Type of Review: Revision of a currently approved collection.

Affected Public: Business or other for-profit.

Estimated Number of Respondents: 20.

Estimated Total Annual Burden Hours: 450.

Title: Applications for Tobacco Products and for Cigarette Papers and Tubes.

OMB Number: 1513-0078.

TTB Form Numbers: 5200.3, 5200.16, 5230.4, and 5230.5.

Abstract: The forms are used by tobacco industry members to obtain and amend permits necessary to engage in business as a manufacturer of tobacco products, importer of tobacco products, or proprietor of an export warehouse.

Current Actions: We are making minor corrections to this information collection and are submitting it as a revision.

Type of Review: Revision of a currently approved collection.

Affected Public: Business and other for-profit.

Estimated Number of Respondents: 630.

Estimated Total Annual Burden Hours: 1,130.

Title: Special (Occupational) Tax Registration and Return.

OMB Number: 1513-0112.

TTB Forms Number: 5630.5a, 5630.5d, and 5630.5t.

Abstract: On August 10, 2005, President Bush signed into law the “Safe, Accountable, Flexible, Efficient Transportation Equity Act: A Legacy for Users,” Public Law 109-59. Section 11125 of that act permanently repealed, effective July 1, 2008, the special (occupational) tax (SOT) on all taxpayers except for Tobacco Product Manufacturers (TPM), Cigarette Papers and Tubes Manufacturers (CPTM), and Tobacco Products Export Warehouse Proprietors (TPEWP). As a result, 3 forms were created to cover all phases of the new SOT collection. TTB F 5630.5 was amended to create TTB F 5630.5t, which is used only for collection of taxes from TPM, CPTM, and TPEWP; the new TTB F 5630.5a is a tax return/registration for the period on and before July 1, 2008; and the new TTB F 5630.5d is used to register Alcohol Dealers on and after July 1, 2008.

Current Actions: We are making corrections to this information collection and are submitting it as a revision.

Type of Review: Revision of a currently approved collection.

Affected Public: Business and other for-profit, Individuals or households, Not-for-profit institutions.

Estimated Number of Respondents: 35,000.

Estimated Total Annual Burden Hours: 14,583.

Dated: August 27, 2008.
Francis W. Foote,
Director, Regulations and Rulings Division.

[FR Doc. E8-20451 Filed 9-3-08; 8:45 am]

BILLING CODE 4810-31-P